DEPARTMENT OF HOMELAND SECURITY

[DOCKET NUMBER—DHS-2021-0052]

Agency Information Collection Activities: Office of the Citizenship and Immigration Services Ombudsman Request for Case Assistance (DHS Form 7001)

AGENCY: Department of Homeland Security (DHS).

ACTION: 30-Day notice and request for comments; extension of a currently approved collection, 1601-0004.

SUMMARY: The Department of Homeland Security will submit the following Information Collection Request (ICR) to the Office of Management and Budget (OMB) for review and clearance in accordance with the Paperwork Reduction Act of 1995. DHS previously published this information collection request (ICR) in the Federal Register on December 16, 2021, for a 60-day public comment period. There were two non-germane comments received by DHS. The purpose of this notice is to allow an additional 30 days for public comments.

DATES: Comments are encouraged and will be accepted until 30 days after the date of publication in the Federal Register. This process is conducted in accordance with 5 CFR 1320.1.

ADDRESSES: Written comments and recommendations for the proposed information collection should be sent within 30 days of publication of this notice to www.reginfo.gov/public/do/PRAMain. Find this information collection by selecting “Currently under 30-day Review—Open for Public Comments” or by using the search function.

SUPPLEMENTARY INFORMATION: The Office of the Citizenship and Immigration Services Ombudsman (CIS Ombudsman) was created under section 452 of the Homeland Security Act of 2002 (Pub. L. 107-296) to: (1) Assist individuals and employers in resolving problems with U.S. Citizenship and Immigration Services (USCIS); (2) to identify areas in which individuals and employers have problems in dealing with USCIS; and (3) to the extent possible, propose changes in the administrative practices of USCIS to mitigate problems. This form is used by an individuals and employers who are experiencing problems with USCIS during the processing of an immigration benefits.

The CIS Ombudsman collects and processes requests for case assistance electronically on the DHS Form 7001 through the Case Assistance Analytics and Data Integration (CAADI) system.

• Paper form: Per Paperwork Reduction Act (PRA) requirements, a fillable PDF version of the form is also provided on the CIS Ombudsman's website. The PDF form may be printed and emailed or mailed to the CIS Ombudsman's office as indicated on the form. It is noted on the form that using the paper method may delay the processing time.

• Electronic form: After approval of the revisions to the form as detailed below, the online form will be updated and posted on the CIS Ombudsman's website at https://www.dhs.gov/case-assistance for electronic submission of the form.

Summary of proposed form changes:

a. To save time for the customer:

a. New and improved instructions make clear when it is appropriate to submit a request for case assistance and who can submit a request.

b. New instructions were added to the beginning of each section of the form; previously they were listed on a separate page.

b. To reduce processing time:

a. Form sections were re-ordered (see below) and expanded to obtain more information up front and in a logical order.

b. Enhanced instructions clarify the supporting documentation needed to reduce the number of times customers are asked to provide additional documentation.

The revised DHS Form 7001 includes these re-ordered and named sections; 4 new sections are indicated in bold:

1. Actions Taken with USCIS for Resolution

2. Reasons for Requesting Case Assistance

3. Applications/Petitions Filed

4. Type of Benefit Sought

5. Name of Applicant or Petitioner

6. Contact Information

7. Identification

8. Supporting Documentation

9. Consent for Applicant/Petitioner

10. Consent for Attorney/Accredited Representative

11. Consent for Family Member Applicants

12. Beneficiary Information for Employment-Based Petitions

13. How did you learn about the CIS Ombudsman's casework services?

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting the electronic submission of responses.

Analysis

Agency: Department of Homeland Security (DHS).

Title: Office of the Citizenship and Immigration Services Ombudsman Request for Case Assistance (DHS Form 7001).

OMB Number: 1601-0004.

Frequency: Renewed Tri-Annually.

Affected Public: Members of the Public.

Number of Respondents: 18,000.

Estimated Time per Respondent: 1 Hour.

Total Annual Reporting Burden Hours: 18,000.

Robert Dorr,
Executive Director, Business Management Directorate.

[FR Doc. 2022-04656 Filed 3-3-22; 8:45 am]

BILLING CODE 9112-FL-P